AGENCY FOR INTERNATIONAL DEVELOPMENT

Analysis of Service Contract Inventory for FY 2017-2019 and the Planned Analysis of the FY 2020 Inventory; Notice of Availability

AGENCY: United States Agency for International Development (USAID)

ACTION: Notice of public availability.

SUMMARY: In accordance with Section 743 of Division C of the FY2010 Consolidated Appropriations Act, the United States Agency for International Development (USAID) hereby advises the public of the availability of the FY 2017-2020 Service Contract Inventory found at https://www.acquisition.gov/service-contract-inventory. The inventory provides information on service contract actions over $25,000. The inventory has been developed in accordance with guidance issued by the Office of Management and Budget's Office of Federal Procurement Policy (OMB/OFPP). The USAID service contract inventory data is included in the government-wide inventory posted in the above link and the government-wide inventory can be filtered to display the inventory data for the Agency. USAID has also posted its FY 2017-2019 SCI Reports at: https://www.usaid.gov/results-and-data/budget-spending/official-service-contract-inventory. The FY 2019 Report includes the plan for analyzing the FY 2020 inventory.

FOR FURTHER INFORMATION CONTACT: Questions regarding the service contract inventory should be directed to Eileen Simoes, Chief, Policy Division, Bureau for Management Policy, Budget and Performance, U.S. Agency for International Development, (202) 921-5090, esimoes@usaid.gov.

Susan C. Radford,
Management and Program Analyst, Bureau for Management Policy, Budget and Performance, U.S. Agency for International Development.

[FR Doc. 2021-16491 Filed 8-2-21; 8:45 am]

BILLING CODE 6116-02-P